DEPARTMENT OF COMMERCE

National Oceanic and Atmospheric Administration

RIN 0648-XA626

Marine Mammals; File No. 16160

AGENCY: National Marine Fisheries Service (NMFS), National Oceanic and Atmospheric Administration (NOAA), Commerce.

ACTION: Notice; receipt of application for permit amendment.

SUMMARY: Notice is hereby given that The Whale Museum (Responsible Party: Jenny Atkinson; Principal Investigator: Eric Eisenhardt), PO Box 945, Friday Harbor, WA 98250, has applied for an amendment to Scientific Research Permit No. 16160.

DATES: Written, telefaxed, or email comments must be received on or before July 20, 2012.

ADDRESSES: The application and related documents are available for review by selecting “Records Open for Public Comment” from the Features box on the Applications and Permits for Protected Species home page, https://apps.nmfs.noaa.gov, and then selecting File No. 16160 from the list of available applications.

These documents are also available upon written request or by appointment in the following offices:

Permits and Conservation Division, Office of Protected Resources, NMFS, 1315 East-West Highway, Room 13705, Silver Spring, MD 20910; phone (301) 427-8401; fax (301) 713-0376; and

Northwest Region, NMFS, 7600 Sand Point Way NE., BIN C15700, Bldg. 1, Seattle, WA 98115-0700; phone (206) 526-6150; fax (206) 526-6426.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Kristy Beard, (301) 427-8401.

SUPPLEMENTARY INFORMATION: The subject amendment to Permit No. 16160 is requested under the authority of the Marine Mammal Protection Act of 1972, as amended (16 U.S.C. 1361 et seq.), the regulations governing the taking and importing of marine mammals (50 CFR part 216), the Endangered Species Act of 1973, as amended (ESA, 16 U.S.C. 1531 et seq.), and the regulations governing the taking, importing, and exporting of endangered and threatened species (50 CFR 222-226).

Permit No. 16160, issued on June 5, 2012 (77 FR 35657), authorizes takes of eight species of cetaceans in the inland waters of Washington State for scientific research. Two of the eight species targeted for research are listed as threatened or endangered: Killer whales (Orcinus orca) from the Southern Resident stock and humpback whales (Megaptera novaeangliae). Other species targeted for research are: Pacific white-sided dolphins (Lagenorhynchus obliquidens), Dall's porpoises (Phocoenoides dalli), harbor porpoises (Phocoena phocoena), eastern gray whales (Eschrichtius robustus), minke whales (B. acutorostrata), and killer whales. The research involves harassment by vessel approach for photo-identification, behavioral observation, and monitoring. The permit expires June 6, 2017.

The permit holder is requesting the permit be amended to increase Southern Resident killer whale takes from 50 to 200 per year based on recommendations provided during the ESA Section 7 consultation.

An environmental assessment (EA) and Finding of No Significant Impact (FONSI) (signed June 4, 2012) prepared for the permit has analyzed the requested 200 Southern Resident killer whale annual takes. NMFS determined that 200 Southern Resident killer whale takes would not significantly impact the quality of the human environment and that preparation of an environmental impact statement was not required. The EA and FONSI are available upon request. A Biological Opinion was also prepared for the permit, which analyzed 200 Southern Resident killer whale takes (signed June 4, 2012) and concluded that the research would not jeopardize threatened and endangered species or destroy or adversely modify critical habitat. However, the permit authorizes 50 annual takes of Southern Resident killer whales pending public opportunity to comment on the higher take number.

Concurrent with the publication of this notice in the Federal Register, NMFS is forwarding copies of the amendment request to the Marine Mammal Commission and its Committee of Scientific Advisors.

Dated: June 14, 2012.
P. Michael Payne,
Chief, Permits and Conservation Division, Office of Protected Resources, National Marine Fisheries Service.

[FR Doc. 2012-15104 Filed 6-19-12; 8:45 am]

BILLING CODE 3510-22-P